DEPARTMENT OF TRANSPORTATION

Federal Aviation Administration

14 CFR Part 73

[Docket No. FAA-2001-17180; Airspace Docket No. 03-AWP-03]

RIN 2120-AA66

Amendment of Restricted Area 2306C, Yuma West, AZ

AGENCY: Federal Aviation Administration (FAA), DOT.

ACTION: Final rule.

SUMMARY: This action amends the designated altitudes and times of use for Restricted Area R-2306C (R-2306C), Yuma West, AZ. This action would raise the upper altitude of R-2306C from 17,000 feet mean seal level (MSL) to 40,000 feet MSL. This action also reduces the time of use from continuous, to 0600 to 2200 hours daily local time, other times by NOTAM. The U.S. Army requested the modification to better accommodate existing and future testing requirements at the Yuma Proving Ground, AZ. This modification does not alter the current lateral boundaries or activities conducted in R-2306C.

EFFECTIVE DATE: 0901 UTC, November 25, 2004.

FOR FURTHER INFORMATION CONTACT: Ken McElroy, Airspace and Rules, Office of System Operations and Safety, Federal Aviation Administration, 800 Independence Avenue, SW., Washington, DC 20591; telephone: (202) 267-8783.

SUPPLEMENTARY INFORMATION:

Background

On May 28, 2004, the FAA proposed to modify the designated altitudes and times of use for R-2306C (69 FR 30606). The U.S. Army requested this modification to better accommodate existing and forecasted training requirements at Yuma Proving Ground, AZ. Interested parties were invited to participate in this rulemaking by submitting written comments. No comments were received.

The Rule

This action amends 14 Code of Federal Regulations (14 CFR) part 73 (part 73) by changing the designated altitude and times of use for R-2306C, Yuma, AZ. Specifically, this action changes the designated altitudes from “Surface to 17,000 feet MSL,” to “surface to 40,000 feet MSL”. This amendment also reduces the times of use from “continuous,” to “0600 to 2200 hours daily local time, other times by NOTAM.” The U.S. Army requested this modification to better accommodate existing and forecast training requirements at Yuma Proving Ground, AZ. This action does not change the current lateral boundaries or activities conducted within R-2306C.

Section 73.23 of 14 CFR part 73 was republished in FAA Order 7400.8L, dated October 7, 2003.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA determined that this change applies to on-going military activities occurring between 17,000 feet MSL and 40,000 feet MSL, and not over noise-sensitive areas; that there will be no significant noise increase associated with this change; and no significant air quality impacts. The FAA further determined that this action does not trigger any extraordinary circumstances that would warrant further environmental review. The FAA concluded that this action is categorically excluded from further environmental analysis in accordance with FAA Order 1050.1E, Policies and Procedures for Considering Environmental Impacts, dated June 8, 2004.

List of Subjects in 14 CFR Part 73

Airspace, Navigation (air).

Adoption of the Amendment

In consideration of the foregoing, the Federal Aviation Administration amends 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.23 [Amended]

2. § 73.23 is amended as follows:

* * * * *

R-2306C Yuma, AZ [Amended]

By removing “Designated altitude. Surface to 17,000 feet MSL,” and “Times of use. Continuous,” and substituting “Designated altitude. Surface to 40,000 feet MSL,” and “Times of use. 0600 to 2200 daily local time, other times by NOTAM.”

* * * * *

Issued in Washington, DC on August 27, 2004.
Reginald C. Matthews,
Manager, Airspace and Rules.

[FR Doc. 04-20172 Filed 9-2-04; 8:45 am]

BILLING CODE 4910-13-P